DEPARTMENT OF THE INTERIOR

National Park Service

Privacy Act of 1974; Amendments to Existing Systems of Records

AGENCY: National Park Service.

ACTION: Proposed amendment of existing Privacy Act systems of records.

SUMMARY: In accordance with the Privacy Act of 1974 (5 U.S.C. 552a), the National Park Service, Department of the Interior is issuing public notice of its intent to amend 19 existing Privacy Act system of records notices to add a new routine use to authorize the disclosure of records to individuals involved in responding to a breach of Federal data.

DATES: Comments must be received by December 8, 2008.

ADDRESSES: Any persons interested in commenting on these proposed amendments may do so by submitting comments in writing to the National Park Service Privacy Act Officer, Diane Cooke, U.S. Department of the Interior, 1849 C Street, NW. (2550), Washington, DC 20240, or by e-mail to Diane_Cooke@nps.gov. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: National Park Service Privacy Act Officer, Diane Cooke, U.S. Department of the Interior, 1849 C Street, NW. (2550), Washington, DC 20240, or by e-mail to Diane_Cooke@nps.gov.

SUPPLEMENTARY INFORMATION: On May 22, 2007, in a memorandum to the heads of Executive Departments and Agencies entitled “Safeguarding Against and Responding to the Breach of Personally Identifiable Information,” the Office of Management and Budget directed agencies to develop and publish a routine use for disclosure of information in connection with response and remedial efforts in the event of a data breach. This routine use will serve to protect the interest of the individuals whose information is at issue by allowing agencies to take appropriate steps to facilitate a timely and effective response to the breach, thereby improving its ability to prevent, minimize or remedy any harm resulting from a compromise of data maintained in its systems of records. Accordingly, the National Park Service of the Department of the Interior is proposing to add a new routine use to authorize disclosure to appropriate agencies, entities, and persons, of information maintained in the following systems in the event of a data breach. These amendments will be effective as proposed at the end of the comment period unless comments are received which would require a contrary determination. The Department will publish a revised notice if changes are made based upon a review of comments received.

Dated: May 05, 2008.
Diane Cooke,
National Park Service Privacy Act Officer.

SYSTEM NAMES:

Interior, NPS-1: “Special Use Permits.” (Published November 10, 1983, 48 FR 51696)

Interior, NPS-2: “Land Acquisition and Relocation Files.” (Published November 10, 1983, 48 FR 51697)

Interior, NPS-3: “Land Acquisition Management Information System and Master Deed Listing” (Published November 10, 1983, 48 FR 51698)

Interior, NPS-4: “Travel Records.” (Published November 10, 1983, 48 FR 51698, as amended on December 21, 1988, 48 FR 51325)

Interior, NPS-5: “Retirement Record.” (Published November 10, 1983, 48 FR 51699)

Interior, DOI-6: The “America the Beautiful—The National Parks and Federal Recreational Lands Pass.” (Published June 4, 2007, 72 FR 30817)

Interior, NPS-6: “Audiovisual Performances Selection Files.” (Published April 11, 1977, 42 FR 19073)

Interior, NPS-7: “National Park Service Historical Library.” (Published, November 10, 1983, 48 FR 51699)

Interior, NPS-8: “Property and Supplies Accountability.” (Published November 10, 1983, 48 FR 51700)

Interior, NPS-10: “Central Files.” (Published April 11, 1977, 42 FR 19075)

Interior, NPS-12: “U.S. Park Police Personnel Photograph File.” (Published April 11, 1977, 42 FR 19075)

Interior, NPS-13: “Concessioner.” (Published November 10, 1983, 48 FR 51700)

Interior, NPS-14: “Concessioner Financial Statement and Audit Report Files.” (Published November 10, 1983, 48 FR 51701)

Interior, NPS-15: “Concessions Management Files.”(Published November 10, 1983, 48 FR 51701)

Interior, NPS-17: “Employee Financial Irregularities.” (Published November 10, 1983, 48 FR 51702 and amended on December 21, 1988, 53 FR 51325)

Interior, NPS-18: “Collection, Certifying and Disbursing Officers, and Imprest Fund Cashiers.” (Published November 10, 1983, 48 FR 51703)

Interior, NPS-19: “Case Incident and Reporting System.” (Published April 7, 1999, 64 FR 16983-16984 and amended January 6, 2005, 70 FR 1265-1266)

Interior, NPS-21: “Visitor Statistical Survey Forms.” (Published November 10, 1983, 48 FR 51705)

Interior, NPS-22: “Motor Vehicle Operations Program.” (Published November 10, 1983, 48 FR 51705)

NEW ROUTINE USE:

Disclosures outside the Department of the Interior may be made:

To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

[FR Doc. E8-25680 Filed 10-27-08; 8:45 am]

BILLING CODE 4312-52-P